DEPARTMENT OF COMMERCE

International Trade Administration

[A-570-174, C-570-175]

Certain Brake Drums From the People's Republic of China: Initiation of Circumvention Inquiry on the Antidumping and Countervailing Duty Orders

AGENCY: Enforcement and Compliance, International Trade Administration, Department of Commerce.

SUMMARY: In response to a request from Webb Wheel Products, Inc. (Webb), the U.S. Department of Commerce (Commerce) is initiating a country-wide circumvention inquiry to determine whether imports of compacted graphite iron (CGI) brake drums from the People's Republic of China (China) are circumventing the antidumping duty (AD) and countervailing duty (CVD) orders on certain brake drums (brake drums) from China.

DATES: Applicable January 27, 2026.

FOR FURTHER INFORMATION CONTACT: Justin Enck at (202) 482-1614 or Walter Schaub at (202) 482-0907, Enforcement and Compliance, International Trade Administration, U.S. Department of Commerce, 1401 Constitution Avenue NW, Washington, DC 20230.

SUPPLEMENTARY INFORMATION:

Background

On November 17, 2025, pursuant to section 781(d) of the Tariff Act of 1930, as amended (the Act), and 19 CFR 351.226(k), Webb filed a circumvention inquiry request ¹ alleging that CGI brake drums produced in China, including model number M328D557, produced by PanAsia CVD (HK) Limited (PanAsia), constitute later-developed merchandise that are circumventing the AD and CVD orders on brake drums from China,² and accordingly, should be included within the scope of the Orders.

¹ See Webb's Letter, “Request for Anti-Circumvention Inquiry Pursuant to Section 781(d) of the Tariff Act of 1930,” dated November 17, 2025 (Circumvention Request).

² See Certain Brake Drums from the People's Republic of China and the Republic of Türkiye: Antidumping Duty Orders, 90 FR 38730 (August 12, 2025) (AD Order); see also Certain Brake Drums from the People's Republic of China and the Order) (collectively, Orders).

Due to a backlog of documents that were electronically filed via Enforcement and Compliance's Antidumping and Countervailing Duty Centralized Electronic Service System (ACCESS) during the Federal Government shutdown, on November 24, 2025, Commerce tolled all deadlines in administrative proceedings by 21 days.³ On December 30, 2025, Commerce extended the initiation deadline by an additional 15 days, in accordance with 19 CFR 351.226(d)(1).⁴

³ See Memorandum, “Tolling of all Case Deadlines,” dated November 24, 2025.

⁴ See Memorandum, “Extension of Circumvention Inquiry Initiation Deadline,” dated December 30, 2025.

On November 27, 2025, CAIEC Trailer Master Co., Ltd. (CAIEC Trailer) filed opposition comments in response to the Circumvention Request.⁵ On December 17, 2025, Webb submitted rebuttal comments in response to CAIEC Trailer's Comments.⁶ On January 2, 2026, we issued a supplemental questionnaire to Webb.⁷ On January 12, 2026, Webb filed its response to our request for additional information.⁸

⁵ See CAIEC Trailer's Letter, “CAIEC TRAILER's Rebuttal Comments on Request for Anti-Circumvention Inquiry,” dated November 27, 2025 (CAIEC Trailer's Comments).

⁶ See Webb's Letter, “Rebuttal Comments and Factual Information in Response to CAIEC Trailer Master's Pre-Initiation Comments,” dated December 17, 2025 (Webb's Rebuttal Comments).

⁷ See Commerce's Letter, “Circumvention Inquiry Request Supplemental Questionnaire,” dated January 2, 2026.

⁸ See Webb's Letter, “Response to Circumvention Inquiry Supplemental Questionnaire,” dated January 12, 2026.

Scope of the Orders

The merchandise covered by these Orders is certain brake drums made of gray cast iron, whether finished or unfinished, with an actual or nominal inside diameter of 14.75 inches or more but not over 16.6 inches, weighing more than 50 pounds. For a full description of the scope of the Orders, see the appendix to this notice.⁹

⁹ See also Initiation Checklist, “Certain Brake Drums from the People's Republic of China,” dated concurrently with, and hereby adopted by, this notice (Initiation Checklist), at Attachment I.

Merchandise Subject to the Circumvention Inquiry

The circumvention inquiry covers compacted graphite iron brake drums with an actual or nominal inside diameter of 14.75 inches or more but not over 16.6 inches, weighing more than 50 pounds,¹⁰ that are produced in China and exported to the United States, including, for example, model number M328D557 produced by PanAsia CVD (HK) Limited.¹¹

¹⁰ See Webb's Rebuttal Comments at 8.

¹¹ See Initiation Checklist.

Initiation of Circumvention Inquiry

Section 351.226(d)(1)(iii) of Commerce's regulations states that if Commerce determines that a request for a circumvention inquiry satisfies the requirements of 19 CFR 351.226(c), then Commerce “will accept the request and initiate a circumvention inquiry.” Section 351.226(c)(1) of Commerce's regulations, in turn, requires that each circumvention inquiry request allege “that the elements necessary for a circumvention determination under section 781 of the Act exist” and be “accompanied by information reasonably available to the interested party supporting these allegations.” Webb alleges circumvention pursuant to section 781(d) of the Act (i.e., merchandise developed after an investigation is initiated).

Section 781(d)(1) of the Act provides that Commerce may find circumvention of an AD or CVD order when merchandise is developed after an investigation is initiated. In conducting a later-developed merchandise inquiry under section 781(d)(1) of the Act and 19 CFR 351.226(k), Commerce will consider whether: (A) the later-developed merchandise has the same general physical characteristics as the merchandise with respect to which the order was originally issued (earlier product); (B) the expectations of the ultimate purchasers of the later-developed merchandise are the same as for the earlier product; (C) the ultimate use of the earlier product and the later-developed merchandise are the same; (D) the later-developed merchandise is sold through the same channels of trade as the earlier product; and (E) the later-developed merchandise is advertised and displayed in a manner similar to the earlier product.

In addition, section 781(d)(2) of the Act establishes that Commerce may not exclude a later-developed merchandise from a countervailing or antidumping duty order merely because the merchandise is classified under a tariff classification other than that identified in the petition or Commerce's prior notices during the proceeding, or permits the purchaser to perform additional functions, unless such additional functions constitute the primary use of the merchandise and the cost of the additional functions constitute more than a significant proportion of the total cost of production of the merchandise.

In accordance with 19 CFR 351.226(m)(2), for companion AD and CVD proceedings, “the Secretary will initiate and conduct a single inquiry with respect to the product at issue for both orders only on the record of the antidumping proceeding.” Further, once “the Secretary issues a final circumvention determination on the record of the AD proceeding, the Secretary will include a copy of that determination on the record of the CVD.” Accordingly, once Commerce concludes this circumvention inquiry, Commerce intends to place its final circumvention determination on the record of the companion CVD proceeding.

Analysis

Based on our analysis of Webb's circumvention inquiry request and supplemental questionnaire response, we determine that they have satisfied the criteria under 19 CFR 351.226(c), and thus, pursuant to 19 CFR 351.226(d)(1)(iii), we are initiating the requested circumvention inquiry. For a full discussion of the basis for our decision to initiate the circumvention inquiry regarding the later-developed merchandise allegation, see the Circumvention Initiation Checklist. The Circumvention Initiation Checklist is available on ACCESS. ACCESS is available to registered users at https://access.trade.gov.

As explained in the Circumvention Initiation Checklist, the information provided by Webb warrants initiating the circumvention inquiry on a country-wide basis. Commerce has taken this approach in prior circumvention inquiries, where the facts warranted initiation on a country-wide basis.¹²

¹² See, e.g., Hydrofluorocarbon Blends from the People's Republic of China: Initiation of Circumvention Inquiry on the Antidumping Duty Order, 88 FR 74150 (October 30, 2023).

Suspension of Liquidation

Pursuant to 19 CFR 351.226(l)(1), Commerce will notify CBP of this initiation and direct CBP to continue the suspension of liquidation of entries of products subject to the circumvention inquiry that were already subject to the suspension of liquidation under the Orders and to apply the cash deposit rates that would be applicable if the products were determined to be covered by the scope of the Orders.

Should Commerce issue an affirmative preliminary or final circumvention determination, Commerce will follow the suspension of liquidation rules under 19 CFR 351.226(l)(2)-(4). In the event that Commerce issues an affirmative preliminary or final circumvention determination that the inquiry merchandise is circumventing the Orders, Commerce will instruct CBP to continue the suspension of liquidation of previously suspended entries and to apply the applicable cash deposit rate. Commerce will also instruct CBP to begin the suspension of liquidation and application of cash deposits for any unliquidated entries of inquiry merchandise not yet suspended, entered, or withdrawn from warehouse, for consumption, on or after the date of publication of the notice of initiation of the circumvention inquiry pursuant to paragraphs (l)(2)(ii) and (l)(3)(ii). In addition, pursuant to paragraphs (l)(2)(iii)(A) and (l)(3)(iii)(A), Commerce may instruct CBP to begin the suspension of liquidation and application of cash deposits for any unliquidated entries not yet suspended, entered, or withdrawn from warehouse, for consumption, prior to the date of initiation of the circumvention inquiry, but not for such entries prior to November 4, 2021, the effective date of these provisions in the Final Rule.¹³ These rules will not affect CBP's authority to take any additional action with respect to the suspension of liquidation or related measures for these entries, as stated in 19 CFR 351.226(l)(5).

¹³ See Regulations to Improve Administration and Enforcement of Antidumping and Countervailing Duty Laws, 86 FR 52300, 52345 (September 20, 2021) (Final Rule).

Notification to Interested Parties

In accordance with 19 CFR 351.226(d) and section 781(d) of the Act, Commerce determines that Webb's request for a circumvention inquiry satisfies the requirements of 19 CFR 351.226(c). Accordingly, Commerce is notifying all interested parties of the initiation of the circumvention inquiry to determine whether CGI brake drums, including PanAsia's model number M328D557, produced in and exported from China, are circumventing the Orders. In addition, we have included a description of the products that are subject to this inquiry and an explanation of Commerce's decision to initiate the inquiry as provided in the accompanying Circumvention Initiation Checklist.¹⁴

¹⁴ See Initiation Checklist.

In accordance with 19 CFR 351.226(e)(1), unless the circumvention inquiry is rescinded, in whole or in part, or the deadline for the preliminary circumvention determination is extended, Commerce intends to issue its preliminary circumvention determination no later than 150 days from the date of publication of the notice of initiation of this circumvention inquiry in the Federal Register. Furthermore, in accordance with section 781(f) of the Act and 19 CFR 351.226(e)(2), unless the circumvention inquiry is rescinded, in whole or in part, or the deadline for the final circumvention deadline is extended, Commerce intends to issue its final determination within 300 days from the date of publication of the notice of initiation of the circumvention inquiry in the Federal Register.

This notice is published in accordance with section 781(d) of the Act, and 19 CFR 351.226(d)(1)(iii).

Dated: January 22, 2026.
Christopher Abbott,
Deputy Assistant Secretary for Policy and Negotiations, performing the non-exclusive functions and duties of the Assistant Secretary for Enforcement and Compliance.

Appendix

Scope of the Orders

The merchandise covered by these Orders is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of these Orders if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by these Orders is classifiable under Harmonized Tariff Schedule of the United States (HTSUS) subheading 8708.30.5020. The merchandise covered by these Orders may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by these Orders is dispositive.

[FR Doc. 2026-01598 Filed 1-26-26; 8:45 am]

BILLING CODE 3510-DS-P